DEPARTMENT OF COMMERCE

National Oceanic and Atmospheric Administration

50 CFR Part 648

[I.D. 012401D]

Fisheries of the Northeastern United States; Supplemental Environmental Impact Statements (SEISs) for the Essential Fish Habitat (EFH) Components of the Northeast Multispecies Fishery Management Plan (FMP) and Atlantic Sea Scallop FMP

AGENCY: National Marine Fisheries Service (NMFS), National Oceanic and Atmospheric Administration (NOAA), Commerce.

ACTION: Notification of intent to prepare an SEIS; request for comments; extension of the comment period.

SUMMARY: NMFS recently announced its intention to prepare SEISs in accordance with the National Environmental Policy Act of 1969 (NEPA) for the EFH components for both the Northeast Multispecies FMP and Atlantic Sea Scallop FMP. NMFS will accept written comments to determine the range of management alternatives to be addressed in the SEISs to describe and identify EFH, minimize to the extent practicable the adverse effects of fishing on EFH, and identify other actions to encourage the conservation and enhancement of EFH. NMFS is extending the comment period for the submission of written comments to ensure opportunity for public comment.

DATES: Written comments on the intent to prepare the SEISs must be received on or before 5 p.m., local time, April 4, 2001.

ADDRESSES: Written comments on the intent to prepare the SEISs and requests for the scoping document or other information should be directed to the National Marine Fisheries Service, One Blackburn Drive, Gloucester, MA 01930, Attn: Louis A. Chiarella. Telephone (978) 281-9277. Comments may also be sent via facsimile (fax) to (978) 281-9301. NMFS will not accept comments by e-mail or Internet.

FOR FURTHER INFORMATION CONTACT: Louis A. Chiarella, Essential Fish Habitat Coordinator, (Lou.Chiarella@noaa.gov), (978) 281-9277, fax (978) 281-9301.

SUPPLEMENTARY INFORMATION: On February 1, 2001 (66 FR 8568), NMFS published notification of its intention to prepare SEISs for the EFH components of the Northeast Multispecies FMP and Atlantic Sea Scallop FMP. See the February 1, 2001, Federal Register notification for background and scoping information related to the development of these SEISs. NMFS is extending the comment period so that written comments will now be accepted through April 4, 2001, rather than through March 5, 2001.

Authority 16 U.S.C. 1801 et seq.

Dated: February 27, 2001.
Bruce C. Morehead,
Acting Director, Office of Sustainable Fisheries, National Marine Fisheries Service.

[FR Doc. 01-5258 Filed 3-2-01; 8:45 am]

BILLING CODE 3510-22-S